DEPARTMENT OF COMMERCE

International Trade Administration

A-533-810

Stainless Steel Bar from India: Notice of Rescission of Antidumping Duty New Shipper Review of Sunflag Iron & Steel Co. Ltd.

AGENCY: Import Administration, International Trade Administration, Department of Commerce.

EFFECTIVE DATE: September 21, 2007.

FOR FURTHER INFORMATION CONTACT: Devta Ohri, AD/CVD Operations, Office 1, Import Administration, International Trade Administration, U.S. Department of Commerce, 14th Street and Constitution Avenue, NW, Washington, DC 20230; telephone (202) 482-3853.

SUPPLEMENTARY INFORMATION:

Background

On February 21, 1995, the Department published in the Federal Register the antidumping duty order on stainless steel bar (SSB) from India. See Antidumping Duty Orders: Stainless Steel Bar from Brazil, India and Japan, 60 FR 9661 (February 21, 1995). On February 28, 2007, the Department received a timely request from Sunflag for a new shipper review of the antidumping duty order on SSB from India, in accordance with 19 CFR 351.214(c). On March 23, 2007, the Department initiated a new shipper review of Sunflag. See Stainless Steel Bar from India: Notice of Initiation of Antidumping Duty New Shipper Review, 72 FR 15110 (March 30, 2007). On April 16, 2007, Sunflag withdrew its request for a new shipper review.

Scope of the Order

Imports covered by the order are shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, our written description of the scope of the order is dispositive.

On May 23, 2005, the Department issued a final scope ruling that SSB manufactured in the United Arab Emirates out of stainless steel wire rod from India is not subject to the scope of this order. See Memorandum from Team to Barbara E. Tillman, “Antidumping Duty Orders on Stainless Steel Bar from India and Stainless Steel Wire Rod from India: Final Scope Ruling,” dated May 23, 2005, which is on file in the CRU in room B-099 of the main Department building. See also Notice of Scope Rulings, 70 FR 55110 (September 20, 2005).

Rescission of Review

The Department's regulations at 19 CFR 351.214(f)(1) provide that the Department will rescind a new shipper review if the party that requested the review withdraws the request within 60 days of the date of publication of the notice of initiation of the requested review. Sunflag withdrew its request for a new shipper review on April 16, 2007, which is within the 60-day deadline. Therefore, the Department is rescinding this new shipper review of Sunflag.

We note that Sunflag is currently participating in the 2006-2007 antidumping duty administrative review of SSB from India, which has the exact same period of review as this new shipper review, i.e., February 1, 2006, through January 31, 2007. Therefore, we will not issue any liquidation instructions to U.S. Customs and Border Protection until after the final results are issued for the 2006-2007 antidumping duty administrative review.

Notification Regarding Administrative Protective Orders

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with section 777(i) of the Tariff Act of 1930, as amended, and 19 CFR 351.213(d)(4).

Dated: September 12, 2007.
Gary Taverman,
Acting Deputy Assistant Secretary for Import Administration.

[FR Doc. E7-18710 Filed 9-20-07; 8:45 am]

BILLING CODE 3510-DS-S